DEPARTMENT OF AGRICULTURE

Forest Service

Forest Health and Restoration Project, National Forests in Alabama, Bankhead National Forest, Winston, Lawrence and Franklin Counties, Alabama

AGENCY: Forest Service, USDA.

ACTION: Notice of intent to prepare an Environmental Impact Statement.

SUMMARY: Forest Service will prepare an Environmental Impact Statement on a proposal to emphasize forest health initiatives across the Bankhead National Forest in a systematic five-year program involving:

1. Intermediate thinning of approximately 13,200 acres of loblolly pine forest to favor conversion to native upland dry and very dry (xeric) oak forest and woodland communities, reduce short-term risks to Southern Pine Beetle (SPB) infestations, and reduce future forest fuel buildups.

2. Intermediate thinning of approximately 5,200 acres of loblolly pine forest to favor conversation to native shortleaf/bluestem woodland communities or very dry (xeric) pineoak forest and woodlands; reduce short-term risks to SPB infestations; and reduce future forest fuel buildups.

3. Intermediated thinning of approximately 3,200 acres of loblolly pine forest to favor conversion to native longleaf/bluestem woodland communities; reduce short-term risks to SPB infestations; and reduce future forest fuel buildups.

4. Natural reforestation and associated site preparation on approximately 4,700 acres of areas impacted by SPB to restore these areas to native upland dry and very dry (xeric) oak forest and woodland communities.

5. Artificial reforestation and associated site preparation on approximately 2,200 acres of ares impacted by SPB to restore these areas to native shortleaf/bluestem woodland communities.

6. Artificial reforestation and associated site preparation on approximately 800 acres of areas impacted by SPB to restore these areas to native longleaf/bluestem woodland communities.

DATES: Comments concerning this analysis should be received in writing by July 6, 2002.

ADDRESSES: Send written comments to: District Ranger, Bankhead NF, P.O. Box 278, Double Springs, AL 35553.

FOR FURTHER INFORMATION CONTACT: Glen Gaines, District Ranger, John Creed, EIS Team Leader, Kathy Wallace, Silviculturist, Tom Counts, Wildlife Biologist, Telephone number: 205-489-5111, FAX Number: 205-489-3427.

SUPPLEMENTARY INFORMATION:

A. The Proposal

The Forest Service proposes to implement a five-year schedule of work to emphasize sustaining short- and long-term forest health and the restoration of six (6) native upland forest community types, including all associated plant and wildlife species, on the Bankhead National Forest located in Winston, Lawrence, and Franklin Counties, Alabama. The proposed actions will focus on (1) areas that are currently occupied by loblolly pine forest that are between the ages of 15 and 45 years old and (2) areas 10 acres and larger impacted by recent SPB infestations. The actions will include intermediate thinning in loblolly pine forest, natural and artificial restoration to reforest SPB impacted areas, and silvicultural site preparation of SPB impacted areas to better insure successful reforestation efforts. Actions proposed include:

1. Intermediate thinning of approximately 13,200 acres of loblolly pine forest to favor conversion to native upland dry and very dry (xeric) oak forest and woodland communities, reduce short-term risks to SPB infestations, and reduce future forest fuel buildups.

2. Intermediate thinning of approximately 5,200 acreas of loblolly pine forest to favor conversion to native shortleaf/bluestem woodland communities or very dry (xeric) pine-oak forest and woodlands, reduce short-term risks to SPB infestations, and reduce future forest fuel buildups.

3. Intermediate thinning of approximately 3,200 acres of loblolly pine forest to favor conversion to native longleaf/bluestem woodland communities, reduce short-term risks to SPB infestations, and reduce future forest fuel buildups.

4. Natural reforestation and site preparation with hand tools on approximately 4,700 acres of areas impacted by SPB to restore these areas to native upland dry and very dry (xeric) oak forest and woodland communities. Prescribed firm may be used as a site preparation tool on some of these areas. Site specific information is available at the Bankhead Ranger District office in Double Springs, AL.

5. Artificial reforestation and site preparation by roller drum chopping and prescribe fire on approximately 2,000 acres of areas impacted by SPB to restore theses areas to native shortleaf/bluestem woodland communities. Site specific information is available at the Bankhead Ranger District office in Double Springs, AL.

6. Artificial reforestation and site preparation by roller drum chopping and prescribe fire on approximately 800 acres of areas impacted by SPB to restore these areas to native longleaf/bluestem woodland communities. Site specific information is available at the Bankhead Ranger District office in Double Springs, AL.

B. Needs for the Proposal

1. Begin the process of returning loblolly pine plantations to longleaf/bluestem, shortleaf/bluestem, or upland hardwood ecosystems by thinning.

2. Thinning will reduce the risk of SPB attack (Final Environmental Impact Statement For the Suppression of the Southern Pine Beetle).

3. Restore areas heavily impacted by SPB to longleaf/bluestem, shortleaf/bluestem, or upland hardwood by site preparation and planting or by natural regeneration with or without site preparation.

C. Nature and Scope of the Decision to be Made

The Bankhead National Forest is in a unique position to implement natural resource management actions aimed at sustaining a representation of nine (9) forest community types that are native to the Southern Cumberland Plateau physiographic region. Emphasis will be placed on maintaining forest and plant community types not abundant on private lands. These communities include fire dependent upland pine/bluestem and oak woodland ecosystems, mid-to late-successional deciduous forests (including cove) hardwood/eastern hemlock forests), old-growth representation of all nine (9) forest community types, and eight (8) rare plant community types.

After the ice age receded approximately 10,000 years ago, the composition of deciduous and pine forests in eastern North America prior to European settlement was largely influenced by climate, natural events (both large-scale and small-scale) and the use of fire by Native Americans. There is increasing evidence that humans actively used woodland fires on a regular basis for a variety of reasons and the forests European settlers first encountered were a result of regular occurrence of fire. This included both upland hardwood forests/woodlands and pine woodlands.

Over the last 100-200 years, fire has been effectively excluded from forests throughout the southern Cumberland Plateau, including the area that is now the Bankhead National Forest. without fire, the range of native, fire dependent forest communities has not been maintained and is now very uncommon across the North Alabama landscape. These communities include the shortleaf/bluestem woodlands, very dry (xeric) oak-pine woodlands, dry and very dry (xeric) oak forest and woodlands, and the northern extent of longleaf/bluestem woodlands. The absence of fire, in combination with major land use changes, has also resulted in a decline of native grassland and shrub conditions that should be common in some of the upland forests. In turn, a decline in native plant and animal diversity across the region has occurred.

The Alabama National Forest (now the northern portion of the Bankhead National Forest) was established in 1914 as a result of the Weeks Act, for the primary purpose of helping to protect the nations watersheds and streams. During the early years the emphasis of the Forest Service was land acquisition and custodial responsibilities. Beginning in the 1930s, the Civilian Conservation Corp provided the labor needed to reestablish forests on abandoned farmland and previously cutover land, which was mostly in the uplands. The primary species used to reestablish forest conditions was loblolly pine. Beginning in the 1960s, the Forest Service initiated new efforts to improve forest economic yields by replacing some upland hardwood forests with faster growing loblolly pine. At the time, loblolly pine offered the best chance of high survival and success in reforestation. These efforts, along with some natural establishment of loblolly pine, have resulted in approximately 68,000 acres typed as loblolly pine on the Bankhead. While loblolly pine is a native tree species, the dominance of pure stands of loblolly pine is probably not typical of native, fire dependent woodlands occurring in the uplands.

Over the past decade, the Bankhead National Forest has been experiencing Southern Pine Beetle infestations at epidemic levels, primarily in loblolly pine forests. The epidemic peaked in the summer of 2000 and continued at very high levels through 2001. An estimate 21,000 acres of pine forest have been killed by this epidemic. Most of the mortality occurred within the Sipsey Wilderness, Proposed Thompson Creek Back Country Area, Kinlock Study Area, High Town Path Study Area, Indian Tomb Hollow Study Area, and Proposed Flint Creek Botanical area where suppression efforts did not take place. The epidemic has resulted in large acres of standing dead trees that are a public safety hazard along trails/roads and these areas have increased forest fuel loads that escalate the risk of catastrophic wildfires in the future.

Approximately 47,000 acres typed as loblolly pine remain on the Bankhead. Of these acres, there are approximately 22,100 acres of loblolly pine forest between the age of 15 and 45 years old with an immediate need for intermediate thinning to reduce the risk of SPB attack (Final Environmental Impact Statement for the Suppression of the Southern Pine Beetle).

This proposal will restore and sustain six (6) upland forest and woodland communities on approximately 29,100 acres currently types as loblolly pine. The restoration will be initiated with intermediate commercial thinning on approximately 21,800 acres and reforestation actions on approximately 7,500 acres included within the scope of this decision.

Existing Forest Communities Not Within the Scope of This Decision

1. Six (6) of the deciduous community types currently exist on approximately 85,295 acres throughout the Bankhead National Forest and are not within the scope of this decision. These areas will be characterized as mid- to late-successional deciduous forests. These forests will have a continuous dominant canopy of large trees, with occasional small gaps up to ½ acre in size. Fire has not significantly influenced the composition of these communities, so most have a well-developed shrub and mid-story canopy. The communities and approximate acres include:

Community type | Estimated existing acres
Northern Hardwood Forest | 1,455
Mixed Mesophytic (Cove-Hemlock) Forest | 14,365
Eastern Riverfornt Forest | 4,381
Moderately moist (mesic) Oak Forest | 46,131
Dry and Moderately moist (mesic) Oak-Pine Forest | 15,041
Dry and Very dry (xeric) Oak Forest | 3,922

These forests will contribute a range of habitat conditions that vary from suitable to optimal for those species of plants and animals typically found in association with forests of these successional stages. Some representatives of the species typically found within this range of habitat conditions in the mid to late successional stages of bottomland and other deciduous forest include the hooded warbler, cerulean warbler, summer tanager, wood thrush, Louisiana water thrush, Acadian flycatcher, white-tailed deer, eastern wild turkey, Indiana bat and the eastern gray squirrel.

2. Additional pine community types currently exist on approximately 61,532 acres throughout the Bankhead National Forest and are not within the scope of this decision. The conditions of these areas range from early successional (0-10 years of age) forests to mid- and late-successional forests. The early successional pine forests are in grass/shrub to seedling/sapling conditions. Some of these grass/forb areas contain sparse over-story pine. The mid-late successional forest have continuous dominant canopy of medium to large-sized trees of moderate tree density. The frequency of fire has not significantly influenced the composition of these communities so most have a well-developed shrub and/or mid-story canopy. The communities and approximate acres include:

Community type | Estimated existing acres
Longleaf Pine and Longleaf-Hardwood | 1,549
Dry and very dry (xeric) Pine and Pine-Oak Forest | 8,777
Loblolly Pine, Mixed Pine, and Loblolly-Hardwood | 51,206

These forests will contribute suitable and optimal habitat for southern pine plant and animal associates, mixed very dry (xeric) forest associates, early successional plant and animal associates, game species, and cave species (those requiring forest conditions for summer maternity/roosting).

D. Proposed Scoping Process

The scoping period associated with this Notice of Intent (NOI) will be thirty (30) days in length, beginning the day after publication of this notice. Preliminary scoping for this proposal began in November 2001 when information was shared with the public on the proposal and plans to document the analysis in an Environmental Impact Statement (EIS). Public meetings will be held on June 27, and June 29,2002, from 9 a.m. to 1 p.m. to discuss the proposal and visit some selected areas that may be treated.

The Bankhead National Forest is seeking additional information, comments, and assistance from Federal, State, and local agencies and other individuals or organizations that may be interested in or affected by the proposed action. This input will be used in preparation of the Draft Environmental Impact Statement (DEIS). The scoping process includes:

1. Identifying potential issues.

2. Identifying issues to be analyzed in depth.

3. Eliminating insignificant issues or those, which have been covered by a relevant previous environmental analysis.

4. Exploring additional alternatives.

5. Identifying potential environmental effects of the proposed action and alternatives.

E. Preliminary Issues Identified to Date Include

1. Protection of soil and water resources.

2. Impacts of the proposed treatments on Federally listed species of plants and wildlife, which are defined by the Endangered Species Act of 1973 as amended, Forest Service Regional Forester's Sensitive Species list, and upon locally rate species.

3. Short and long term impacts on recreational experiences on the Bankhead National Forest.

4. Protection of cultural resources.

5. Effects on management indicator species.

F. Possible Alternatives Identified to Date Include

1. No Action: This alternative will serve as a baseline for comparison of alternatives. Present management activities will continue but the proposed project will not be done. This alternative will be fully developed and analyzed.

2. Proposed Action:

Restoration Activities for Native Upland Deciduous Forests and Woodlands

There will be intermediate thinning of approximately 13,200 acres of loblolly pine forest to favor conversion to dry and very dry (xeric) oak forest and woodlands, moderately moist (mesic) oak forests, and dry and moderately moist (mesic) oak-pine forests, reduce short-term risks to SPB infestations, and reduce forest fuel buildups.

The loblolly pine thinning program will reduce basal area to between 50 to 70 square feet per acre. Trees favored for retention in order of priority in these areas will include (1) dominant hardwood trees, (2) co-dominant hardwood trees, and (3) dominant/co-dominant pine. The favored hardwood species will include a variety of oak and hickory species. Consultation will be conducted with the U.S. Fish and Wildlife Service regarding coordination of restoration activities with Recovery Plans for Federally listed species. The top priority stands for thinning will be those between 15-45 years old, with high tree densities. It is proposed that all timber sale harvest options be available for this program.

The thinning will allow the development of young oak, hickory, and other associated hardwood species in the understory that are intolerant of shade. In some cases, the thinning will actually shift the forest condition from predominantly pine forest to a predominatly deciduous forest condition.

Natural reforestation, with or without site preparation, as well as the possibility of artificial reforestation, will be conducted on approximately 4,700 acres of former loblolly pine forest impacted by SPB infestations. Site preparation may include mechanical treatment, prescribed burning or a combination of both. Some areas may be left to regenerate naturally without site preparation. These activities will restore these sites to dry and very dry (xeric) oak forest and woodlands, moderately moist (mesic) oak forests, and dry and moderately moist (mesic) oak-pine forests.

Desired Outcome for Upland Deciduous forest Restoration Effort

1. Dry and Very dry (xeric) Oak Forest and Woodland Community

The dry and very dry (xeric) oak forest and woodland community type will be restored on the northern portion of the Bankhead National Forest. These areas will be characterized as mid- to late-successional forests. These forests are characterized as having canopies ranging from closed forest conditions to open woodland conditions, with occasional small gaps up to ½ acre in size. Dominant over story trees will include white oak, black oak, chestnut oak, scarlet oak, and post oak. The occurrence of dormant season fire in these areas, 1 or 2 times per decade, will restrict tree density and promote the growth of shade intolerant grasses, forbs, and shrubs in some areas and in other areas these forests will have a well developed shrub and mid-story canopy.

These forests will contribute a range of habitat conditions that vary from suitable to optimal for those species of plants and animals typically found in association with forests of these successional stages. Some representatives of the species typically found within this range of habitat conditions in the mid to late successional stages of deciduous forest include the hooded warbler, pileated woodpecker, cerulean warbler, white-tailed deer, eastern wild turkey and the eastern gray squirrel.

2. Moderately Moist (Mesic) Oak Forest and Dry and Moderately Moist (Mesic) Oak-Pine Forest Community

The moderately moist (mesic) oak forest and dry and moderately moist (mesic) oak-pint forest community types will be restored on the northern portion of the Bankhead National Forest. These areas will be characterized as mid- to late-successional forests.

These forests will have a continuous dominant canopy of medium-sized trees, with occasional small gaps up to ½ acre in size. Dominant over story trees will include northern hardwood, chestnut oak, black oak, scarlet oak, pignut hickory, mockernut hickory, shagbark hickory, loblolly pine, and shortleaf pine. American chestnut historically was a major species in this forest community. On dry sites, the occurrence of low intensity fire in these areas, 1 or 2 times per decade, will help maintain the oak component by eliminating fire-sensitive competitors and stimulate oak regeneration. On moderately moist (mesic) sites these forests will have a well-developed shrub and mid-story canopy.

These forests will contribute a range of habitat conditions that vary from suitable to optimal for those species of plants and animals typically found in association with forests of these successional stages. Some representatives of the species typically found within this range of habitat conditions in the mid to late successional stages of deciduous forest include the hooded warbler, pileated woodpecker, cerulean warbler, white-tailed deer, eastern wild turkey and the eastern gray squirrel.

Restoration Activities for Native Shortleaf/Bluestem Woodlands

There will be intermediate thinning of approximately 5,200 acres of loblolly pine forest to favor conversion to very dry (xeric) shortleaf/bluestem woodlands and very dry (xeric) pine-oak forest and woodlands. This action will also reduce short-term risks to SPB infestations and reduce forest fuel buildups.

The loblolly pine thinning program will reduce basal area to between 60 to 70 square feet per acre. Trees favored for retention in order of priority in these areas will include (1) shortleaf pine, (2) longleaf pine, (3) loblolly pine, and (4) dominant/codominant oaks/hickory. The favored hardwood species will include a variety of oak and hickory species. Consultation will be conducted with the U.S. Fish and Wildlife Service regarding coordination of restoration activities with Recovery Plans for Federally listed species. The top priority stands for thinning will be those between 15-45 years old, with high tree densities. It is proposed that all timber sale harvest options be available for this program.

The thinning will lower tree densities that will allow the development of understory, fire-dependent grasses and shrubs that are intolerant of shade. This thinning will precede future restoration activities that will gradually replace the existing loblolly pine with shortleaf pine as predominant species.

Artificial reforestation and site preparation will be conducted on approximately 2,000 acres of former loblolly pine forest impacted by SPB infestations. Site preparation may include mechanical treatment, prescribed burning or a combination of both. Shortleaf seedlings will be planted artificially to assure adequate stocking. In addition, prescribed burning will be utilized as an intermediate to help achieve the desired restoration. These activities will restore these sites to very dry (xeric) shortleaf/bluestem woodlands.

Desired Outcome of Shortleaf/Bluestem Woodland Community Restoration Effort

The very dry (xeric) shortleaf/bluestem woodland and very dry (xeric) pine-oak forest and woodland community types will be restored on the central portion of the Bankhead National Forest. These areas will be characterized as mid- to late-successional forests. These forests are characterized as having open woodland conditions, with occasional small gaps up to ½ acre in size. The dominant over story tree will be shortleaf pine. Other trees species that will be found at lower densities are: Virginia pine, loblolly pine, scarlet oak, chestnut oak, southern red oak, white oak, blackjack oak, and pignut hickory. The occurrence of dormant and growing season fire in these areas, 2 or 3 times per decade, will restrict tree density and promote the growth of shade intolerant native grasses, forbs, and shrubs.

If maintained by fire, this portion of the forest will contribute a range of habitat conditions that vary from suitable to optimal for those species of plants and animals typically found in association with forests of these open conditions. Some representatives of the species typically within this range of habitat conditions in the native shortleaf and bluestem woodland include the prairie warbler, orchard oriole, northern bobwhite quail, white-tailed deer, and eastern wild turkey.

Restoration Activities for Native Longleaf/Bluestem Woodlands

There will be intermediate thinning of approximately 3,200 acres of loblolly pine forest to favor conversion to longleaf/bluestem woodlands, to reduce short-terms risks to SPB infestations, and to reduce forest fuel buildups.

The loblolly pine thinning program will reduce basal area to between 60 to 70 square feet per acre. These favored for retention in order of priority in these areas will include (1) longleaf pine, (2) shortleaf or loblolly pine, and (3) dominant/codominant oaks/hickory. The favored hardwood species will include a variety of oak and hickory species. Consultation will be conducted with the U.S. Fish and Wildlife Service regarding coordination of restoration activities with Recovery Plans for Federally listed species. The top priority stands for thinning will be those between 15-45 years old, with high tree densities. It is proposed that all timber sale harvest options be available for this program.

The thinning will lower tree densities that will allow the development of understory, fire-dependent grasses and shrubs that are intolerant of shade. This thinning will precede future restoration activities that will gradually replace the existing loblolly pine with longleaf pine as predominant species.

Artificial reforestation and site preparation will be conducted on approximately 800 acres of former loblolly pine forest impacted by SPB infestations. Site preparation may include mechanical treatment, prescribed burning or a combination of both. Longleaf seedlings will be planted artificially to assure adequate stocking. In addition, prescribed burning will be utilized as an intermediate treatment to help achieve the desired future conditions. These activities will restore these sites to very dry (xeric) longleaf/bluestem woodlands.

Desired Outcome of Longleaf/Bluestem Woodland Community Restoration Effort

The longleaf/bluestem woodland community types will be restored on the southern portion of the Bankhead National Forest. These areas will be characterized as mid- to late-successional forests. These forests are characterized as having open woodland conditions, with occasional small gaps up to ½ acre in size. The dominant over story tree will be longleaf pine. Other trees species that will be found at lower densities are: Virginia pine, loblolly pine, scarlet oak, chestnut oak, southern red oak, white oak, blackjack oak, and pignut hickory. The occurrence of dormant and growing season fire in these areas, 2 or 3 times per decade, will restrict tree density and promote the growth of shade intolerant native grasses, forbs, and shrubs.

These areas of the forest will contribute a range of habitat conditions for native species of plants and wildlife. This range of conditions will vary from suitable to optimal for those species of plants and animals typically found in association with forests of these open conditions. Maintenance by prescribed fire is necessary to have the optimal conditions. Some representatives of the wildlife species typically found within this range of habitat conditions in the native longleaf pine and bluestem woodlands include the prairie warbler, brown-headed nuthatch, red-cockaded woodpecker, northern bobwhite quail, white-tailed deer and eastern wild turkey.

G. Special Permit Needs

There are no special permits required from any State or Federal agencies in order to implement this project. Consultation with U.S. Fish and Wildlife Service as required by section 7 of the Endangered Species Act of 1973, as amended, will be conducted for all needed activities.

H. Lead Agency

The USDA Forest Service is the lead agency for this project. The Bankhead Ranger District requests that comments be as specific as possible for this proposal, and be sent to: District Ranger Glen Gaines, USDA, Forest Service, P.O. Box 278, Double Springs, AL 35553.

It is estimated that the draft EIS will be available for public comment by July 31, 2003. It is very important that those interested in this proposed action participate at this time. To be helpful, comments on the DEIS should be as specific as possible and may address the adequacy of the statement or the merits of the alternatives discussed (see the Council on Environmental quality Regulations for implementing the procedural provisions of the National Environmental Policy Act at 40 CFR 1503.3)

In addition, Federal court decisions have established that reviewers of DEIS's must structure their participation in the environmental review of the proposal so that it is meaningful and alerts the agency to the reviewers' position and contentions: Vermont Yankee Nuclear Power Corp. v. NRDC, 435 U.S. 519, 553 (1978). Environmental objections that could have been raised at the draft stage may be waived if not raised until after completion of the final environmental impact statement (FEIS). City of Angoon v. Hodel, 803 F.2d 1016, 1022 (9th Cir. 1986) and Wisconsin Heritages, Inc. v. Harris, 490 F.Supp. 1334, 1338 (E.D. Wis. 1980). The reason for this is to ensure that substantive comments and objections are made available to the Forest Service at a time when it can meaningful consider them and respond to them in the FEIS.

I. Estimated date for FEIS

After the comment period ends on the DEIS, the comments will be analyzed, considered, and responded to by the Forest Service in preparing the Final Environmental Impact Statement (FEIS). The FEIS is scheduled to be completed by November 17, 2003. The responsible official will consider the comments, responses, environmental consequences discussed in the final supplement, applicable laws, regulations, and policies in making a decision regarding this proposal. The responsible official will document the decision and reasons for the decision in the Record of Decision. That decision will be subject to appeal under 36 CFR 215. The responsible official for this project will be Glen Gaines, District Ranger for the Bankhead Ranger District, National Forests in Alabama at: P.O. Box 278, Double Springs, AL 35553.

Dated: May 17, 2002.
Glen D. Gaines,
District Ranger.

[FR Doc. 02-13069 Filed 5-23-02; 8:45 am]

BILLING CODE 3410-11-M